DEPARTMENT OF COMMERCE

International Trade Administration

[A-580-839]

Partial Rescission of Antidumping Duty Administrative Review: Certain Polyester Staple Fiber from Korea

AGENCY: Import Administration, International Trade Administration, Department of Commerce.

EFFECTIVE DATE: November 1, 2007.

FOR FURTHER INFORMATION CONTACT: Andrew McAllister or Brandon Farlander, AD/CVD Operations, Office 1, Import Administration, International Trade Administration, U.S. Department of Commerce, 14th Street and Constitution Avenue, NW, Washington, DC 20230; telephone: (202) 482-1174 and (202) 482-0182, respectively.

SUPPLEMENTARY INFORMATION:

Background

On May 1, 2007, the Department issued a notice of opportunity to request an administrative review of this order for the period of review (“POR”) May 1, 2006, through April 30, 2007. See Antidumping or Countervailing Duty Order, Finding, or Suspended Investigation; Opportunity to Request Administrative Review, 72 FR 23796 (May 1, 2007). On May 31, 2007, Huvis Corporation (“Huvis”) requested an administrative review of its entries that were subject to the antidumping duty order for this period. On that same date, the Department also received a request from Wellman, Inc., DAK Americas LLC, and Invista, S.a.r.L. (collectively, “the petitioners”) for a review of Huvis, Saehan Industries, Inc. (“Saehan”), Mijung Industry Co., Ltd. (“Mijung”), Estal Industry Co., Ltd. (“Estal”), Keon Baek Co., Ltd. (“Keon Baek”), Sam Young Synthetics Co., Ltd. (“Sam Young”), Sunglim Co., Ltd. (“Sunglim”), and Daeyang Industrial Co., Ltd. (“Daeyang”).¹ On June 13, 2007, the petitioners withdrew their review request for Keon Baek because that company is no longer subject to the order. On June 20, 2007, the petitioners withdrew their review requests for Mijung, Sam Young, and Sunglim. On June 29, 2007, the Department published the notice of initiation of this antidumping duty administrative review, covering Huvis, Saehan, Estal, Daeyang, and Samyang Corporation (“Samyang”). See Initiation of Antidumping and Countervailing Duty Administrative Reviews, Request for Revocation in Part and Deferral of Administrative Review, 72 FR 35690 (June 29, 2007). On July 26, 2007, the petitioners withdrew their request for review of Saehan. On September 21, 2007, the petitioners withdrew their request for reviews of Estal and Daeyang.

¹ The petitioners also asked for the Department to request U.S. Customs and Border Protection import data, for either direct shipments or shipments through Canada or Mexico, under the name “Samyang,” but did not request an administrative review of this company.

Partial Rescission of Review

Pursuant to 19 CFR 351.213(d)(1), the Secretary will rescind an administrative review, in whole or in part, if the party who requested the review withdraws the request within 90 days of the date of publication of the notice of initiation of the requested review. Because the petitioners withdrew their request for review of Saehan, Estal, and Daeyang within the 90-day period and no other party requested a review of Saehan's, Estal's, or Daeyang's entries, in accordance with 19 CFR 351.213(d)(1), we are rescinding this review with respect to Saehan, Estal, and Daeyang.

With respect to Samyang, pursuant to 19 CFR 351.213(b)(1), the Department conducts an administrative review based on a request from a domestic interested party that specifies individual exporters or producers covered by the order. The Department has determined that the petitioners' May 31, 2007, request for U.S. Customs and Border Protection data with respect to Samyang did not constitute a written request for an administrative review of Samyang's entries. Therefore, the Department erred in self-initiating the review of Samyang's entries. In accordance with 19 CFR 351.213(d)(2), we are rescinding this review with respect to Samyang.

The Department will issue appropriate assessment instructions directly to the U.S. Customs and Border Protection (CBP) 15 days after the publication of this notice. The Department will direct CBP to assess antidumping duties at the cash deposit rate in effect on the date of entry for entries of subject merchandise produced and/or exported by Samyang, Saehan, Estal, and Daeyang during the period May 1, 2006, through April 30, 2007.

This notice is published in accordance with section 777(i)(1) of the Tariff Act of 1930, as amended, and 19 CFR 351.213(d)(4).

Dated: October 26, 2007.
Stephen J. Claeys,
Deputy Assistant Secretary for Import Administration.

[FR Doc. E7-21532 Filed 10-31-07; 8:45 am]

BILLING CODE 3510-DS-S